DEPARTMENT OF COMMERCE

National Oceanic and Atmospheric Administration

Agency Information Collection Activities; Submission to the Office of Management and Budget (OMB) for Review and Approval; Comment Request; U.S. Pacific Highly Migratory Species Hook and Line Logbook

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on January 11, 2021 (86 FR 1943) during a 60-day comment period. This notice allows for an additional 30 days for public comments.

Agency: National Oceanic & Atmospheric Administration (NOAA), Commerce.

Title: U.S. Pacific Highly Migratory Species Hook and Line Logbook.

OMB Control Number: 0648-0223.

Form Number(s): NOAA 88-197.

Type of Request: Regular submission (extension of a current information collection).

Number of Respondents: 1,700.

Average Hours per Response: 1 hour.

Total Annual Burden Hours: 3,400.

Needs and Uses: Under the Fishery Management Plan for United States (U.S.) West Coast Fisheries for Highly Migratory Species (HMS), U.S. anglers participating in the Pacific hook-and-line (also known as the albacore troll and poll-and-line), coastal purse seine (vessels less than 400 st carrying capacity), large-mesh drift gillnet, and swordfish harpoon fisheries, are required to obtain an HMS permit. Permit holders are also required to complete and submit logbooks documenting their daily fishing activities, including catch and effort for each fishing trip. Logbook forms must be completed within 24 hours of the completion of each fishing day and submitted to the Southwest Fisheries Science Center (SWFSC) within 30 days of the end of each trip. Federal regulations allow the use of state logbooks to fulfill this requirement; for example, Washington commercial passenger fishing vessels have fulfilled this requirement to date for HMS fisheries. These data and associated analyses help the SWFSC provide critical HMS fisheries information to researchers, fisheries managers, and the needed management advice to the U.S. in its negotiations with foreign fishing nations that fish for HMS.

Affected Public: Business or other for-profit organizations.

Frequency: After each trip.

Respondent's Obligation: Required to Obtain or Retain Benefits, and Mandatory.

Legal Authority: Magnuson-Stevens Fishery Conservation and Management Act.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0223.

Sheleen Dumas,
Department PRA Clearance Officer, Office of the Chief Information Officer, Commerce Department.

[FR Doc. 2021-10063 Filed 5-11-21; 8:45 am]

BILLING CODE 3510-22-P